DEPARTMENT OF THE INTERIOR

Bureau of Land Management

[NV-040-1430-01; N-66421]

Notice of Realty Action: Non-Competitive Sale of Public Lands in Lincoln County, NV

AGENCY: Bureau of Land Management, Interior.

ACTION: Notice of realty action.

SUMMARY: The below listed public land in Caliente, Lincoln County, Nevada has been examined and found suitable for sale utilizing non-competitive procedures, at not less than fair market value. In accordance with Section 7 of the Act of June 28, 1934, as amended, 43 U.S.C. 315f and EO 6910, the described lands are hereby classified as suitable for disposal under the authority of Section 203 and Section 209 of the Federal Land Policy and Management Act of October 21, 1976; 43 U.S.C. 1713 and 1719.

DATES: Interested parties may submit comments to the Assistant Field Manager, Nonrenewable Resources until October 7, 2002.

ADDRESSES: Written comments should be addressed to: Bureau of Land Management, Jeffrey A. Weeks, Assistant Field Manager, Nonrenewable Resources, HC 33, Box 33500, Ely, Nevada 89301-9408.

FOR FURTHER INFORMATION CONTACT: Kevin Finn, Realty Specialist, at the above address or telephone (702) 289-1849.

SUPPLEMENTARY INFORMATION: The following described parcel of land, situated in Lincoln County is being offered as a direct sale to the City of Caliente.

Mount Diablo Meridian, Nevada

T. 4 S., R. 66 E., Sec. 12, S½NE¼SE¼SE¼NE¼, SE¼SE¼NE¼, E½NE¼NE¼SE¼, E½NW¼NE¼NE¼SE¼, E½SW¼NE¼NE¼SE¼, NE¼SE¼NE¼SE¼.

T. 4 S., R. 67 E., Sec. 7, Lots 3, 4.

containing 105.21 acres.

This land is not required for any federal purposes. The sale is consistent with current Bureau planning for this area and would be in the public interest. In the event of a sale, conveyance of the available mineral interests will occur simultaneously with the sale of the land. The mineral interests being offered for conveyance have no known mineral value. Acceptance of a direct sale offer will constitute an application for conveyance of those mineral interests, excluding those mineral interests retained by the federal government. The applicant will be required to pay a $50.00 nonreturnable filing fee for conveyance of the available mineral interests. The direct sale of this land is supported by the Lincoln County Commissioners.

The purpose of the sale is to allow for the City of Caliente to construct an industrial park. The proportion of existing Recreation & Public Purposes Lease N-12843 issued to the City of Caliente and encumbering the sale site will be relinquished by the City of Caliente immediately prior to patent.

Appraised value of the above described parcel is $150,000.

The patent, when issued, will contain the following reservations to the United States:

(1) A right-of-way thereon for ditches and canals constructed by the authority of the United States, Act of August 30, 1890 (43 U.S.C. 945).

(2) All the sodium, potassium and oil and gas mineral deposits in the land subject to this conveyance.

(3) All prior existing rights.

All purchasers/patentees, by accepting a patent, agree to indemnify, defend, and hold harmless the United States from any costs, damages, claims, causes of action, penalties, fines, liabilities, and judgments of any kind or nature arising from the past, present, and future acts or omissions of the patentee or their employees, agents, contractors, or lessees, or any third party, arising out of, or in connection with, the patentee's use, occupancy , or operations of the patented real property. The indemnification and hold harmless agreement includes, but is not limited to, acts and omissions of the patentee and their employees, agents, contractors, or lessees, or any third party, arising out of or in connection with the use and/or occupancy of the patented real property which has already resulted or does hereafter result in: (1) Violation of federal, state, and local laws and regulations that are now, or may in the future become, applicable to the real property: (2) Judgments, claims or demands of any kind assessed against the United States: (3) Costs, expenses, or damages of any kind incurred by the United States: (4) or threatened releases of solid or hazardous waste(s) and/or hazardous substance(s), as defined by federal or state environmental laws; off, on, into or under land, property and other interests of the United States; (5) Other activities by which solids or hazardous substances or wastes, as defined by federal and state environmental laws are generated, released, stored, used or otherwise disposed of on the patented real property, and any cleanup response, remedial action, or other actions related in any manner to said solid or hazardous substances or wastes; or (6) Natural resources damages as defined by federal and state law. This covenant shall be construed as running with the patented real property and may be enforced by the United States in a court of competent jurisdiction.

Upon publication of this notice in the Federal Register, the above-described land will be segregated from all other forms of appropriation under the public land laws, including the general mining laws. The segregation will terminate upon issuance of a patent or 270 days from the date of this publication, whichever occurs first.

For a period of 45 days from the date of publication of this notice in the Federal Register, interested parties may submit comments regarding this action to the Assistant Field Manager, Nonrenewable Resources at the address listed above. Any adverse comments will be reviewed by the State Director who may sustain, vacate, or modify this realty action. In absence of any adverse comments, this realty action will become the final determination of the Department of the Interior. The Bureau of Land Management may reject an offer to purchase, if in the opinion of the authorized officer, consummation of the sale would not be fully consistent with FLPMA, or other applicable laws. The lands will not be offered for sale until at least 60 days after the date of publication of this notice in the Federal Register.

Dated: June 25, 2002.
Jeffrey A. Weeks,
Assistant Field Manager, Nonrenewable Resources.

[FR Doc. 02-21397 Filed 8-21-02; 8:45 am]

BILLING CODE 4310-HC-P